Proclamation 9824 of November 9, 2018

National Apprenticeship Week, 2018

By the President of the United States of America

A Proclamation

Under my Administration's policies, our Nation's economy is booming and Americans have more opportunities than ever before. Men and women from all walks of life are moving off the sidelines and into the workforce. In this economic context, our country needs workers with world-class skills and abilities to fill vacant positions in the labor force. During National Apprenticeship Week, we recognize the importance of apprenticeships in helping our country's hardworking people develop the competencies that enable success in today's dynamic, 21st century economy.

As a lifelong businessman who has hired thousands of workers, I am a strong believer in the apprenticeship model, and my Administration is committed to expanding apprenticeship opportunities. Apprenticeship programs, when implemented effectively, provide workers with an opportunity to “earn and learn” on the job, and pair workplace education with classroom instruction, accelerating the learning process for participants and increasing their marketability. Since I took office, American employers have hired over 400,000 apprentices. In 2018 alone, we committed $145 million to diversify and scale apprenticeship programs, and we provided an additional $150 million in grant opportunities to promote apprenticeships in industries where they have not traditionally existed, including advanced manufacturing, banking and finance, information technology, and healthcare. In addition, as a result of our Pledge to America's Workers, in just 3 months, we have secured commitments from more than 160 companies and associations to provide jobs, education, and workforce development opportunities to 6.4 million American workers.

In June of last year, I signed an Executive Order creating the Task Force on Apprenticeship Expansion, which focused on identifying proposals to cultivate apprenticeships across all sectors of the economy and reform ineffective education and workforce development programs. The Task Force was composed of representatives from business, the trades, labor and industry groups, and educational institutions; each participant contributed a unique set of insights and experiences. The Task Force helped my Administration map out a strategy for creating new, industry-recognized apprenticeship programs that will encourage employers and industries to adopt the apprenticeship model.

In addition to supporting apprenticeships, I am advancing tax and regulatory policies that are increasing opportunities for all Americans. Last month, the unemployment rate dropped to 3.7 percent, its lowest point in nearly 50 years, and more Americans are working today than ever before in our history. At the same time, right now, there are 7 million unfilled jobs in our country. By successfully deploying the apprenticeship model, the United States can build a workforce strong enough to quickly fill all of those jobs and better compete on the global stage. This week, I encourage all participants in our economy, from business leaders to government officials to educators, to join in our efforts to expand apprenticeship programs. Together, we can build and educate our Nation's workforce, securing American economic greatness for future generations.

NOW, THEREFORE, I, DONALD J. TRUMP, President of the United States of America, by virtue of the authority vested in me by the Constitution and the laws of the United States, do hereby proclaim November 12 through November 18, 2018, as National Apprenticeship Week.

IN WITNESS WHEREOF, I have hereunto set my hand this ninth day of November, in the year of our Lord two thousand eighteen, and of the Independence of the United States of America the two hundred and forty-third.

[FR Doc. 2018-25126

Filed 11-14-18; 11:15 am]

Billing code 3295-F9-P